DEPARTMENT OF VETERANS AFFAIRS

[OMB Control No. 2900-0089]

Agency Information Collection Activity Under OMB Review: Statement of Dependency of Parent(s)

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Comments must be submitted on or before November 16, 2017.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0089” in any correspondence.

FOR FURTHER INFORMATION CONTACT: Cynthia Harvey-Pryor, Office of Quality, Privacy and Risk, Department of Veterans Affairs, 811 Vermont Avenue, Floor 5, Area 368, Washington, DC 20420, (202) 461-5870 or email cynthia.harvey-pryor@va.gov. Please refer to “OMB Control No. 2900-0089” in any correspondence.

SUPPLEMENTARY INFORMATION:

Authority: 38 U.S.C. 102, 38 U.S.C. 1315.

Title: Statement of Dependency of Parent(s) VA Form 21P-509.

OMB Control Number: 2900-0089.

Type of Review: Reinstatement with change of a previously approved collection.

Abstract: 38 U.S.C. 102 requires that income and dependency must be determined before benefits may be paid to, or for, a dependent parent. Regulatory authority is found in 38 CFR 3.4 and 38 CFR 3.250. Information is requested by this form under the authority of 38 U.S.C. 501(a)(2).

VA Form 21P-509 is used by VBA to gather income and dependency information from claimants who are seeking payment of benefits as, or for, a dependent parent. This information is necessary to determine dependency of the parent and make determinations which affect the payment of monetary benefits. The form is used by a veteran seeking to establish his/her parent(s) as dependent(s), and by a surviving parent seeking death compensation.

An agency may not conduct or sponsor, and a person is not required to respond to a collection of information unless it displays a currently valid OMB control number. The Federal Register Notice with a 60-day comment period soliciting comments on this collection of information was published at 82 FR 37168 on August 8, 2017.

Affected Public: Individuals or Households.

Estimated Annual Burden: 4,000.

Estimated Average Burden per Respondent: 30 minutes.

Frequency of Response: Once, ad hoc.

Estimated Number of Respondents: 8,000.

By direction of the Secretary.
Cynthia Harvey-Pryor,
Department Clearance Officer, Office of Quality, Privacy and Risk, Department of Veterans Affairs.

[FR Doc. 2017-22383 Filed 10-16-17; 8:45 am]

BILLING CODE 8320-01-P